DEPARTMENT OF COMMERCE

International Trade Administration

U.S.-Japan Semiconductor Agreement Data Collection Program; Proposed Collection; Comment Request

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506(c)(2)(A)).

DATES: Written comments must be submitted on or before May 6, 2002.

ADDRESSES: Direct all written comments to Madeleine Clayton, Departmental Paperwork Clearance Officer, (202) 482-3129, Department of Commerce, Room 6608, 14th & Constitution Avenue, NW., Washington, DC 20230 or via internet at MClayton@doc.gov.

FOR FURTHER INFORMATION CONTACT: Requests for additional information or copies of the information collection instrument and instructions should be directed to: Dorothea Blouin, Office of Microelectronics, Medical Equipment and Instrumentation, Room 1015, Department of Commerce, 14th & Constitution Avenue, NW, Washington, DC 20230; phone (202) 482-1333, fax number (202) 482-0975 or via the Internet at Dorothea_Blouin@ita.doc.gov.

SUPPLEMENTARY INFORMATION:

I. Abstract

The Data Collection Form is the vehicle by which individual “Foreign” (non-Japanese) semiconductor companies voluntarily report their sales to Japan. The information provided by the Data Collection Program (DCP) is used by the U.S. Government to calculate foreign market share in the Japanese semiconductor market to ensure access to the Japanese market gained under the 1986 and 1991 U.S.-Japan Semiconductor Arrangement continues under the 1996 Semiconductor Agreement.

II. Method of Data Collection

The Department of Commerce distributes Form ITA-4115P and the instruction manual to semiconductor companies after their eligibility is checked. The applicant completes the form and then forwards it to Price Waterhouse, who submits a summary report to the U.S. Department of Commerce/ Office of Microelectronics for calculation of foreign (non-Japanese) share of the Japanese market.

III. Data

OMB Number: 0625-0211.

Form Number: ITA-4115P.

Type of Review: Regular Submission.

Affected Public: Business or other for-profit companies.

Estimated Number of Respondents: 38.

Estimated Time Per Response: 1 hour.

Estimated Total Annual Burden Hours: 456 hours.

Estimated Total Annual Costs: The estimated annual cost for this collection is $41,040 ($34,200 for respondents and $6,840 for federal government).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: February 27, 2002.
Madeleine Clayton,
Departmental Paperwork Clearance Officer, Office of the Chief Information Officer.

[FR Doc. 02-5181 Filed 3-4-02; 8:45 am]

BILLING CODE 3510-DR-P